DEPARTMENT OF DEFENSE

GENERAL SERVICES ADMINISTRATION

NATIONAL AERONAUTICS AND SPACE ADMINISTRATION

48 CFR Chapter 1

[Docket No. FAR 2019-0002, Sequence No. 2]

Federal Acquisition Regulation; Federal Acquisition Circular 2019-03; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2019-03, which amends the Federal Acquisition Regulation (FAR). An asterisk (*) next to a rule indicates that a regulatory flexibility analysis has been prepared. Interested parties may obtain further information regarding this rule by referring to FAC 2019-03, which precedes this document. These documents are also available via the internet at http://www.regulations.gov.

DATES: June 12, 2019.

FOR FURTHER INFORMATION CONTACT: Mr. Michael O. Jackson at 202-208-4949 for clarification of content. For information pertaining to status or publication schedules, contact the Regulatory Secretariat Division at 202-501-4755. Please cite FAC 2019-03, FAR Case 2017-006.

Rule Listed in FAC 2019-03
Subject | FAR case | Analyst
*Exception From Certified Cost or Pricing Data Requirements—Adequate Price Competition | 2017-006 | Jackson.

SUPPLEMENTARY INFORMATION: A summary for the FAR rule follows. For the actual revisions and/or amendments made by this FAR Case, refer to the specific subject set forth in the document following this item summary. FAC 2019-03 amends the FAR as follows:

Exception From Certified Cost or Pricing Data Requirements—Adequate Price Competition (FAR Case 2017-006)

This final rule amends the FAR to provide guidance to DoD, NASA, and the Coast Guard, consistent with section 822 of the National Defense Authorization Act for Fiscal Year 2017 that addresses the exception from certified cost or pricing data requirements when price is based on adequate price competition. Section 822 excludes from the standard for adequate price competition the situation in which there was an expectation of competition, but only one offer is received. The standard of adequate price competition that is based on a reasonable expectation of competition is now applicable only to agencies other than DoD, NASA, and the Coast Guard.

William F. Clark,
Director, Office of Government-wide Acquisition Policy, Office of Acquisition Policy, Office of Government-wide Policy.

[FR Doc. 2019-12264 Filed 6-11-19; 8:45 am]

BILLING CODE 6820-EP-P